NUCLEAR REGULATORY COMMISSION

[Docket No. 72-1051; NRC-2018-0052]

Holtec International HI-STORE Consolidated Interim Storage Facility Project; Correction

AGENCY: Nuclear Regulatory Commission.

ACTION: Draft environmental impact statement; public meeting; request for comments; correction.

SUMMARY: The U.S. Nuclear Regulatory Commission (NRC) is correcting a notice that was published in the Federal Register on June 12, 2020, regarding the draft Environmental Impact Statement (EIS) for Holtec International's (Holtec's) application to construct and operate a consolidated interim storage facility (CISF) for spent nuclear fuel and Greater-Than Class C waste, along with a small quantity of mixed oxide fuel in Lea County, New Mexico. This action is necessary to include information for the public on how to submit comments to the NRC and to correct the ADAMS Accession Number for the draft EIS.

DATES: The NRC staff will hold a webinar on June 23, 2020. The staff will present the findings of the draft report and will receive public comments during transcribed public meeting. Members of the public are invited to submit comments by July 22, 2020. Comments received after this date will be considered if it is practical to do so, but the NRC is able to ensure consideration only for comments received before this date.

ADDRESSES: You may submit comments by any of the following methods:

• Federal Rulemaking Website: Go to https://www.regulations.gov and search for Docket ID NRC-2018-0052. Address questions about NRC dockets IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

• Email comments to: Holtec-CISFEIS@nrc.gov.

For additional direction on obtaining information and submitting comments, see “Obtaining Information and Submitting Comments” in the SUPPLEMENTARY INFORMATION section of this document.

FOR FURTHER INFORMATION CONTACT: Jill Caverly, Office of Nuclear Material Safety and Safeguards, telephone: 301-415-7674, email: Jill.Caverly@nrc.gov, U.S. Nuclear Regulatory Commission, Washington DC 20555-0001.

SUPPLEMENTARY INFORMATION:

I. Obtaining Information and Submitting Comments

A. Obtaining Information

Please refer to Docket ID NRC-2018-0052 when contacting the NRC about the availability of information for this action. You may obtain publicly-available information related to this action by any of the following methods:

• Federal Rulemaking Website: Go to https://www.regulations.gov and search for Docket ID NRC-2018-0052.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The draft EIS is available in ADAMS under Accession No. ML20069G420.

• Project Web Page: Information related to the Holtec HI-STORE CISF project can be accessed on the NRC's Holtec HI-STORE CISF web page at https://www.nrc.gov/waste/spent-fuel-storage/cis/holtec-international.html. Scroll down to EIS, Draft Report for Comment.

• Public Libraries: A copy of the staff's draft EIS can be accessed at the following public libraries (library access and hours are determined by local policy):

• Carlsbad Public Library, 101 S Halagueno Street, Carlsbad, NM 88220.

• Hobbs Public Library, 509 N Shipp St., Hobbs, NM 88240.

• Roswell Public Library, 301 N Pennsylvania, Roswell, NM 88201.

B. Submitting Comments

Please include Docket ID NRC-2018-0052 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

The NRC issued a notice announcing a public meeting and request for comments on June 12, 2020 (85 FR 35956). The NRC is correcting the notice to include information on how the public may submit comments on the draft EIS for Holtec's application to construct and operate a CISF for spent nuclear fuel and Greater-Than Class C waste, along with a small quantity of mixed oxide fuel in Lea County, New Mexico. The NRC is also correcting the ADAMS Accession Number for the draft EIS. The draft EIS is available in ADAMS under Accession No. ML20069G420.

III. Public Meeting

Comments will be accepted during the webinar on June 23, 2020, and through the methods listed under the ADDRESSES section of this document.

The webinar will be held online and will offer a telephone line for members of the public to submit comments. A court reporter will be recording all comments received during the webinar. The dates and times for the public webinar are as follow:

Date | Time | Location
6/23/2020 | 5:00 p.m. to 9:00 p.m. (EDT) 3:00 p.m. to 7:00 p.m. (MDT) | Webinar Information: https://usnrc.webex.com, Event Number: 199 800 0026, Password: HOLTEC, Telephone Bridge Line: 1-888-454-7496, Participant Passcode: 5790355.

Persons interested in attending this meeting should monitor the NRC's Public Meeting Schedule web page at https://www.nrc.gov/pmns/mtg for additional information, agenda for the meeting, information on how to provide verbal comments, and access information for the meeting. Participants should register in advance of the meeting by visiting the website page (https://usnrc.webex.com) and using the event number provided above. A confirmation email will be generated providing additional details and a link to the meeting. Those wishing to make verbal comments at the meeting should follow instructions listed at the NRC's Public Meeting Schedule.

Dated: June 16, 2020.
For the Nuclear Regulatory Commission.
Diana B. Diaz Toro,
Acting Chief, Environmental Review Materials Branch, Division of Rulemaking, Environmental and Financial Review, Office of Nuclear Material Safety and Safeguards.

[FR Doc. 2020-13290 Filed 6-18-20; 8:45 am]

BILLING CODE 7590-01-P